NATIONAL ARCHIVES AND RECORDS ADMINISTRATION

Information Security Oversight Office

[NARA-2017-016]

State, Local, Tribal, and Private Sector Policy Advisory Committee Meeting

AGENCY: Information Security Oversight Office (ISOO). National Archives and Records Administration (NARA).

ACTION: Notice of Federal Advisory Committee Meeting.

SUMMARY: In accordance with the Federal Advisory Committee Act, NARA announces an upcoming State, Local, Tribal, and Private Sector Policy Advisory Committee (SLTPS-PAC) meeting.

DATES: The meeting will be on January 25, 2017, from 10:00 a.m. to 12:00 p.m. EDT.

ADDRESSES: National Archives and Records Administration (NARA); 700 Pennsylvania Avenue NW., Jefferson Room; Washington, DC 20408.

FOR FURTHER INFORMATION CONTACT: Robert J. Skwirot, Senior Program Analyst, ISOO, by mail at National Archives Building; 700 Pennsylvania Avenue NW., Washington, DC 20408, by telephone at 202.357.5398, or by email at robert.skwirot@nara.gov. Contact ISOO at ISOO@nara.gov.

SUPPLEMENTARY INFORMATION: The meeting's purpose is to discuss matters relating to the Classified National Security Information Program for State, Local, Tribal, and Private Sector entities. This meeting is open to the public. However, due to space limitations and access procedures, you must register in advance if you wish to attend the meeting. Submit your name and telephone number to ISOO at the contact information above no later than Wednesday, January 18, 2017. ISOO will provide additional instructions for gaining access to the Jefferson Room.

Authority: 5 U.S.C. app 2.

Patrice Little Murray,
Committee Management Officer.

[FR Doc. 2016-30949 Filed 12-22-16; 8:45 am]

BILLING CODE 7515-01-P